Memorandum of February 2, 2021

Maximizing Assistance From the Federal Emergency Management Agency To Respond to COVID-19

Memorandum for the Secretary of Homeland Security [and] the Administrator of the Federal Emergency Management Agency

By the authority vested in me as President by the Constitution and the laws of the United States of America, including the Robert T. Stafford Disaster Relief and Emergency Assistance Act, 42 U.S.C. 5121-5207 (the ``Stafford Act''), I hereby order as follows:

Section 1. Policy. Consistent with the nationwide emergency declaration concerning the coronavirus disease 2019 (COVID-19) pandemic on March 13, 2020, it is the policy of my Administration to combat and respond to COVID-19 with the full capacity and capability of the Federal Government to protect and support our families, schools, and businesses, and to assist State, local, Tribal, and territorial governments to do the same, including through emergency and disaster assistance available from the Federal Emergency Management Agency (FEMA).

Sec. 2. Assistance for Category B COVID-19 Emergency Protective Measures. (a) FEMA shall provide a 100 percent Federal cost share for all work eligible for assistance under Public Assistance Category B, pursuant to sections 403 (42 U.S.C. 5170b), 502 (42 U.S.C. 5192), and 503 (42 U.S.C. 5193) of the Stafford Act, including that authorized by section 3(a) of my memorandum of January 21, 2021 (Memorandum to Extend Federal Support to Governors' Use of the National Guard to Respond to COVID-19 and to Increase Reimbursement and Other Assistance Provided to States), performed from January 21, 2021, through September 30, 2021.

(b) FEMA shall provide a 100 percent Federal cost share for all work eligible for assistance under Public Assistance Category B, pursuant to sections 403 (42 U.S.C. 5170b), 502 (42 U.S.C. 5192), and 503 (42 U.S.C. 5193) of the Stafford Act, but not including that authorized by section 3(a) of my memorandum of January 21, 2021, performed from January 20, 2020, through January 20, 2021.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Administrator of FEMA is authorized and directed to publish this memorandum in the Federal Register.

THE WHITE HOUSE,

Washington, February 2, 2021

[FR Doc. 2021-02569

Filed 2-4-21; 8:45 am]

Billing code 9111-23-P